DEPARTMENT OF COMMERCE

International Trade Administration

[A-552-817]

Certain Oil Country Tubular Goods From the Socialist Republic of Vietnam: Rescission of Antidumping Duty Administrative Review; 2015-2016

AGENCY: Enforcement and Compliance, International Trade Administration, Department of Commerce.

SUMMARY: The Department of Commerce (the Department) is rescinding the administrative review of the antidumping duty order on certain oil country tubular goods (OCTG) from the Socialist Republic of Vietnam (Vietnam) for the period of review (POR), September 1, 2015, through August 31, 2016.

DATES: Effective May 25, 2017.

FOR FURTHER INFORMATION CONTACT: Fred Baker, AD/CVD Operations, Office VI, Enforcement and Compliance, International Trade Administration, U.S. Department of Commerce, 1401 Constitution Avenue NW., Washington, DC 20230; telephone (202) 482-2924.

SUPPLEMENTARY INFORMATION:

Background

On September 8, 2016, the Department published in the Federal Register a notice of “Opportunity to Request Administrative Review” of the antidumping duty order on OCTG from Vietnam for the period of September 1, 2015, through August 31, 2016.¹ On September 30, 2016, in accordance with section 751(a) of the Tariff Act of 1930, as amended (the Act), and 19 CFR 351.213(b), the Department received a timely request from the petitioners to conduct an administrative review of the antidumping duty order on OCTG from Vietnam manufactured or exported by Hoa Phat Steel Pipe Co., Ltd., Hot Rolling Pipe Co., Ltd., SeAH Steel Corporation, SeAH Steel VINA Corporation, and Vina One Steel Manufacturing.²

¹ See Antidumping or Countervailing Duty Order, Finding, or Suspended Investigation; Opportunity to Request Administrative Review, 81 FR 62096 (September 8, 2016).

² See Letter from Maverick Tube Corporation and United States Steel Corporation (petitioners) to the Secretary, Re: Oil Country Tubular Goods from the Socialist Republic of Vietnam: Request for Administrative Review, dated September 30, 2016.

On November 9, 2016, the Department published in the Federal Register a notice of initiation of an administrative review of the antidumping duty order for Hoa Phat Steel Pipe Co., Ltd., Hot Rolling Pipe Co., Ltd., SeAH Steel Corporation, SeAH Steel VINA Corporation, and Vina One Steel Manufacturing.³ On February 7, 2017, the petitioners timely withdrew their request for an administrative review for all companies under review.⁴

³ See Initiation of Antidumping and Countervailing Duty Administrative Reviews, 81 FR 78778 (November 9, 2016).

⁴ See Letter from the petitioners to the Secretary, Re: Oil Country Tubular Goods from Vietnam: Withdrawal of Review Request, dated February 7, 2017.

Rescission of Review

Pursuant to 19 CFR 351.213(d)(1), the Department will rescind an administrative review, if the party that requested the review withdraws its request within 90 days of the publication of the notice of initiation of the requested review. The petitioners withdrew their request within the 90-day deadline. No other party requested an administrative review of the antidumping duty order. Therefore, in response to the timely withdrawal of the review request, the Department is rescinding in its entirety the administrative review of the antidumping duty order on OCTG from Vietnam.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions to CBP 15 days after the publication of this notice in the Federal Register.

Notification to Importers

This notice serves as the only reminder to importers whose entries will be liquidated, as a result of this rescission, of their responsibility under 19 CFR 351.402(f)(2) to file a certificate regarding the reimbursement of antidumping duties prior to liquidation of the relevant entries during this review period. Failure to comply with this requirement may result in the presumption that reimbursement of antidumping duties occurred and the subsequent assessment of doubled antidumping duties.

Notification Regarding Administrative Protective Order

This notice serves as the only reminder to parties subject to the administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

This notice is published in accordance with sections 751(a) and 777(i)(1) of the Act and 19 CFR 351.213(d)(4).

Dated: May 19, 2017.
Gary Taverman,
Deputy Assistant Secretary for Antidumping and Countervailing Duty Operations.

[FR Doc. 2017-10726 Filed 5-24-17; 8:45 am]

BILLING CODE 3510-DS-P